DEPARTMENT OF ENERGY

Federal Energy Regulatory Commission

[Docket No. CP01-28-000]

Columbia Gulf Transmission Company; Notice of Request Under Blanket Authorization

October 9, 2000.

Take notice that on November 3, 2000, Columbia Gulf Transmission Company (Columbia Gulf), 2603 Augusta, Suite 125, Houston, Texas 77057-5637. filed in Docket No. CP01-28-000 a request pursuant to Sections 157.205 and 157.208(b)(2), of the Commission's Regulations (18 CFR Sections 157.205 and 157.208) under the Natural Gas Act (NGA) for authorization to construct, own and operate a lateral line and related facilities to permit the delivery of natural gas to Entergy Mississippi, Inc. (EMI) and Warren Power, LLC (Warren) at EMI's existing Baxter Wilson, and to Warren's proposed Warren Power Plant, both in Warren County, Mississippi, all as more fully set forth in the application which is on file with the Commission and open to public inspection. This filing may be viewed on the web at http://www.ferc.fed.us/online/htm (call 202-208-2222 for assistance).

Columbia Gulf request authorization to construct and operate a delivery lateral, referred to as the Vicksburg Lateral, consisting of approximately 37 miles of 20-inch pipeline that will extend from Columbia Gulf's mainline system in Richland Parish, Louisiana to interconnections with EMI's existing Baxter Wilson Plant and with Warren's proposed Warren Power Plant. It is stated that the lateral will accommodate up to 285,000 dt per day, both in Warren County, Mississippi. Columbia Gulf estimates a construction cost of $20,148,000, which would be financed through internally-generated funds. It is stated that Columbia Gulf will construct and operate two new points of delivery under the automatic authorization provisions of its Part 157, Subpart F blanket certificate. Columbia Gulf indicates that it will provide the requested firm transportation services under its Rate Schedule FTS-1 under agreements with a primary term of ten years and at negotiated rates.

Any questions regarding the application may be directed to Jacquelyne M. Rocan, Senior Attorney at (713) 267-4100.

Any person or the Commission's staff may, within 45 days after the issuance of the instant notice by the Commission, file pursuant to Rule 214 of the Commission's Procedural Rules (18 CFR 385.214) a motion to intervene or notice of intervention and, pursuant to Section 157.205 of the Commission's regulations under the NGA (18 CFR 157.205), a protest to the request. If no protest is filed within the time allowed therefor, the proposed activity shall be deemed to be authorized effective the day after the time allowed for filing a protest. If a protest is filed and not withdrawn within 30 days after the time allowed for filing a protest, the instant request shall be treated as an application for authorization pursuant to Section 7 of the NGA. Comments and protests may be filed electronically via the internet in lieu of paper. See, 18 CFR 385.2001(a)(iii) and the instructions on the Commission's web site at http://www.ferc.fed.us/efi/doorbell.htm.

Linwood A. Watson, Jr.,
Acting Secretary.

[FR Doc. 00-29347 Filed 11-15-00; 8:45 am]

BILLING CODE 6717-01-M